DEPARTMENT OF TRANSPORTATION

Federal Aviation Administration

14 CFR Part 119

[Docket No. FAA-2002-13378; Notice No. 02-14]

RIN 2120-AH55

Reports by Carriers on Incidents Involving Animals During Air Transport

AGENCY: Federal Aviation Administration (FAA), DOT.

ACTION: Notice of proposed rulemaking (NPRM); extension of comment period.

SUMMARY: This action extends the comment period for an NPRM that was published on September 27, 2002. In that document, the FAA proposed to amend its regulations to implement the requirement established by Congress that air carriers providing scheduled passenger air transportation submit reports to the Secretary of Transportation on any incidents involving the loss, injury or death of an animal during air transport provided by the air carrier. This extension is a result of requests received during the comment period for the NPRM.

DATES: Comments must be received on or before December 27, 2002.

ADDRESSES: Comments on this document should be mailed or delivered, in duplicate, to: U.S. Department of Transportation Dockets, Docket No. FAA-2002-13378, 400 Seventh Street, SW., Room Plaza 401, Washington, DC 20590. Comments may be filed and examined in Room Plaza 401 between 9 a.m. and 5 p.m. weekdays, except Federal holidays. Comments also may be sent electronically to the Dockets Management System (DMS) at the following Internet address: http://dms.dot.gov at any time. Commenters who wish to file comments electronically should follow the instructions on the DMS Web site.

FOR FURTHER INFORMATION CONTACT: James W. Whitlow, Office of the Chief Counsel, AGC-2, Federal Aviation Administration, 800 Independence Avenue, SW., Washington, DC 20591; telephone (202) 267-3222; facsimile (202) 267-3227.

SUPPLEMENTARY INFORMATION:

Comments Invited

The FAA invites interested persons to participate in this rulemaking by submitting written comments, data, or views. We also invite comments relating to the economic, environmental, energy, or federalism impacts that might result from adopting the proposals in the NPRM, Notice No. 02-14. The most helpful comments reference a specific portion of the proposal, explain the reason for any recommended change, and include supporting data. We ask that you send us two copies of written comments.

We will file in the docket all comments we receive, as well as a report summarizing each substantive public contact with FAA personnel concerning this proposed rulemaking. The docket is available for public inspection before and after the comment closing date. If you wish to review the docket in person, go to the address in the ADDRESSES section of this preamble between 9 a.m. and 5 p.m., Monday through Friday, except Federal holidays. You may also review the docket using the Internet at the web address ADDRESSES section.

Before acting on the proposals in the NPRM, Notice No. 02-14, we will consider all comments we receive on or before the closing date. We will consider comments filed late if it is possible to do so without incurring expense or delay. We may change the proposals in light of the comments we receive.

If you want the FAA to acknowledge receipt of your comments, include with your comments a pre-addressed, stamped postcard on which the docket number appears. We will stamp the date on the postcard and mail it to you.

Availability of Rulemaking Documents

You can get an electronic copy using the Internet by taking the following steps:

(1) Go to the search function of the Department of Transportation's electronic Docket Management System (DMS) Web page (http://dms.dot.gov/search).

(2) On the search page type in the last four digits of the Docket number shown at the beginning of this notice. Click on “search.”

(3) On the next page, which contains the Docket summary information for the Docket you selected, click on the document number of the item you wish to view.

Background

The FAA published a notice (67 FR 61238, September 27, 2002) proposing to amend 14 CFR part 119 to implement the requirement established by Section 710(a) of Public Law 106-181, the Wendell H. Ford Aviation Investment and Reform Act for the 21st Century (AIR-21) that air carriers must submit reports on the loss, injury or death of an animal during air transport. This information would be submitted to the Secretary of Transportation for each month in which an incident or incidents occur, through the Animal and Plant Health Inspection Service (APHIS), United States Department of Agriculture (USDA). The notice also proposed the type and manner of information that air carriers would be required to submit to APHIS.

Extension of Comment Period

In accordance with § 11.47 of Title 14, Code of Federal Regulations, the FAA has reviewed the petitions submitted to the docket by several commenters requesting an extension of the comment period to Notice No. 02-14 (67 FR 61238). These petitioners requested an extension of time to adequately respond to the notice of proposed rulemaking. To allow additional time for a more thorough review of applicable issues and drafting of responsive comments, the FAA finds that there is good cause and it is in the public interest to extend the comment period for an additional 60 days beyond the 30 days already provided. Accordingly, the comment period for Notice No. 02-14 is extended until December 27, 2002.

Issued in Washington, DC, on October 10, 2002.
James W. Whitlow,
Deputy Chief Counsel.

[FR Doc. 02-26465 Filed 10-17-02; 8:45 am]

BILLING CODE 4910-13-M